DEPARTMENT OF ENERGY

Federal Energy Regulatory Commission

[Docket Nos. PR24-28-000, PR24-29-000, PR24-30-000]

Enterprise Texas Pipeline LLC, Acadian Gas Pipeline System, Enterprise Intrastate LLC; Notice of Technical Conference

Take notice that a virtual technical conference will be held on March 4, 2024, at 10 a.m. (EST) to discuss comments, protests, and data request responses filed in the proceedings captioned above.

Commission conferences are accessible under section 508 of the Rehabilitation Act of 1973. For accessibility accommodations, please send an email to accessibility@ferc.gov, call toll-free (866) 208-3372 (voice) or (202) 208-8659 (TTY), or send a fax to (202) 208-2106 with the required accommodations.

All interested parties are invited to participate remotely. For more information about this technical conference including how to participate, virtual meeting details, etc., please contact Wallace Knobel at Wallace.Knobel@ferc.gov or at 202-502-6288.

Dated: February 21, 2024.
Debbie-Anne A. Reese,
Acting Secretary.

[FR Doc. 2024-04032 Filed 2-26-24; 8:45 am]

BILLING CODE 6717-01-P